SMALL BUSINESS ADMINISTRATION

[Disaster Declaration #12210 and #12211]

West Virginia Disaster Number WV-00020

AGENCY: U.S. Small Business Administration.

ACTION: Amendment 1.

SUMMARY: This is an amendment of the Presidential declaration of a major disaster for the State of West Virginia (FEMA-1918-DR), dated 06/24/2010.

Incident: Severe storms, flooding, mudslides, and landslides.

Incident Period: 06/12/2010 and continuing.

DATES: Effective Date: 07/08/2010.

Physical Loan Application Deadline Date: 08/23/2010.

EIDL Loan Application Deadline Date: 03/24/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of West Virginia, dated 06/24/2010 is hereby amended to include the following areas as adversely affected by the disaster:

Primary Counties: (Physical Damage and Economic Injury Loans): Lewis.

Contiguous Counties: (Economic Injury Loans Only):

West Virginia: Braxton, Doddridge, Gilmer, Harrison, Upshur, Webster.

All other information in the original declaration remains unchanged.

(Catalog of Federal Domestic Assistance Numbers 59002 and 59008)

James E. Rivera,
Associate Administrator for Disaster Assistance.

[FR Doc. 2010-17317 Filed 7-14-10; 8:45 am]

BILLING CODE 8025-01-P